NUCLEAR REGULATORY COMMISSION

[Docket No. 50-400, NRC-2012-0034]

Environmental Assessment and Finding of No Significant Impact; Carolina Power and Light Company Shearon Harris Nuclear Power Plant, Unit 1

AGENCY: Nuclear Regulatory Commission.

ACTION: Notice of availability.

FOR FURTHER INFORMATION CONTACT: Araceli T. Billoch Colón, Project Manager, Licensing Branch II-2, Division of Operating Reactor Licensing, Office of Nuclear Reactor Regulation, U.S. Nuclear Regulatory Commission, Rockville, Maryland, 20822. Telephone: (301) 415-3302; fax number: (301) 415-1032; email: Araceli.Billoch@nrc.gov.

SUPPLEMENTARY INFORMATION:

I. Introduction

The U.S. Nuclear Regulatory Commission (NRC) is considering issuance of an exemption pursuant to Title 10 of the Code of Federal Regulations (10 CFR) 50.46, “Acceptance Criteria for Emergency Core Cooling Systems for Light-Water Nuclear Power Reactors,” and 10 CFR part 50, appendix K, “ECCS [Emergency Core Cooling System] Evaluation Models,” to allow for the use of M5™ alloy fuel rod cladding for Renewed Facility Operating License No. NPF-63, issued to Carolina Power and Light Company (the licensee), doing business as Progress Energy Carolinas Inc., for operation of the Shearon Harris Nuclear Power Plant, Unit 1 (HNP), located in New Hill, North Carolina. In accordance with 10 CFR 51.21, “Criteria for and Identification of Licensing and Regulatory Actions Requiring Environmental Assessments,” the NRC staff prepared an environmental assessment documenting its finding. The NRC staff concluded that the proposed action will have no significant environmental impact.

II. Environmental Assessment Summary

Identification of the Proposed Action

The proposed action would exempt the licensee from certain requirements of 10 CFR 50.46 and appendix K to 10 CFR part 50. Specifically, 10 CFR 50.46, paragraph (a)(1)(i) provides requirements for reactors containing uranium oxide fuel pellets clad in either zircaloy or ZIRLO. Additionally, appendix K to 10 CFR part 50 presumes the use of zircaloy or ZIRLO fuel cladding when doing calculations for energy release, cladding oxidation, and hydrogen generation after a postulated loss-of-coolant accident. Therefore, both of these regulations state or assume that either zircaloy or ZIRLO is used as the fuel rod cladding material. The proposed exemption would allow the licensee use of M5™ cladding fuel assemblies into the core of HNP Unit 1. The proposed action is in accordance with the licensee's application dated January 19, 2011.

The Need for the Proposed Action

The proposed exemption is needed to allow the licensee the use of M5™ alloy fuel rod cladding at HNP. The licensee has requested an exemption from the requirements of 10 CFR 50.46 and appendix K to 10 CFR part 50 to allow for loading of M5™ clad fuel assemblies, in lieu of zircaloy or ZIRLO, into the core during Refueling Outage 17 that is currently scheduled for spring 2012.

Environmental Impacts of the Proposed Action

The NRC has completed its evaluation of the proposed action and concludes that there are no environmental impacts associated with the proposed exemption. The details of the NRC staff's safety evaluation will be provided in the exemption that, if approved by the NRC, will be issued as part of the letter to the licensee approving the exemption to the regulation.

The proposed action will not significantly increase the probability or consequences of accidents. No changes are being made in the types of effluents that may be released offsite. There is no significant increase in the amount of any effluent released offsite. There is no significant increase in occupational or public radiation exposure. Therefore, there are no significant radiological environmental impacts associated with the proposed action.

With regard to potential nonradiological impacts, the proposed action does not result in changes to land use or water use, or result in changes to the quality or quantity of nonradiological effluents. No changes to the National Pollutant Discharge Elimination System permit are needed. No effects on the aquatic or terrestrial habitat in the vicinity of the plant, or to threatened, endangered, or protected species under the Endangered Species Act, or impacts to essential fish habitat covered by the Magnuson-Stevens Act are expected. No impacts to the air or ambient air quality are expected. There are no impacts to historic and cultural resources. In addition, there are also no known socioeconomic or environmental justice impacts associated with the proposed action. Therefore, there are no significant nonradiological environmental impacts associated with the proposed action.

Accordingly, the NRC concludes that there are no significant environmental impacts associated with the proposed action.

Environmental Impacts of the Alternatives to the Proposed Action

As an alternative to the proposed action, the NRC staff considered denial of the proposed action (i.e., the “no action” alternative). Denial of the exemption request would result in no change in current environmental impacts. If the proposed action was denied, the licensee would have to comply with the ECCS rules in 10 CFR 50.46 and appendix K to 10 CFR part 50 and would not be able to use M5™ clad fuel in the HNP core during the upcoming refueling outage. The environmental impacts of the proposed exemption and the “no action” alternative are similar.

Alternative Use of Resources

The action does not involve the use of any different resources than those considered in the Final Environmental Statement for HNP, NUREG-0972, dated October 31, 1983, as supplemented through the “Generic Environmental Impact Statement for License Renewal of Nuclear Plants: Regarding Shearon Harris Nuclear Power Plant, Unit 1—Final Report (NUREG-1437, Supplement 33).”

Agencies and Persons Consulted

In accordance with its stated policy, on January 19, 2012 the NRC staff consulted with the North Carolina State official, Mr. Lee Cox of the Division of Radiation Protection, with the North Carolina Department of Environment and Natural Resources, regarding the environmental impact of the proposed action. The State official had no comments.

III. Finding of No Significant Impact

On the basis of the environmental assessment, the NRC concludes that the proposed action will not have a significant effect on the quality of the human environment. Accordingly, the NRC has determined not to prepare an environmental impact statement for the proposed action.

IV. Further Information

Documents related to this action are available electronically at the NRC Library at http://www.nrc.gov/reading-rm/adams.html. From this site, you can access the NRC's Agencywide Document Access and Management System (ADAMS), which provides text and image files of NRC's public documents. For further details with respect to the proposed action, see the licensee's letter dated January 19, 2011, located under ADAMS Accession No. ML11313A162. If you do not have access to ADAMS or if there are problems in accessing the documents located in ADAMS, contact the NRC Public Document Room (PDR) Reference staff at 1-800-397-4209, 301-415-4737 or by email to pdr.resource@nrc.gov.

These documents may also be viewed electronically on the public computers located at the NRC's Public Document Room (PDR), O 1 F21, One White Flint North, 11555 Rockville Pike Rockville, MD 20852. The PDR reproduction contractor will copy documents for a fee.

Dated at Rockville, Maryland, this 6th day of February 2012.
For the Nuclear Regulatory Commission.
Araceli T. Billoch Colón,
Project Manager, Plant Licensing Branch 2-2, Division of Operating Reactor Licensing, Office of Nuclear Reactor Regulation.

[FR Doc. 2012-3521 Filed 2-14-12; 8:45 am]

BILLING CODE 7590-01-P